DEPARTMENT OF ENERGY

Federal Energy Regulatory Commission

Combined Notice of Filings #2

Take notice that the Commission received the following electric rate filings:

Docket Numbers: ER21-2722-001.

Applicants: E. BarreCo Corp LLC.

Description: Refund Report: Revised Refund report to 2 to be effective N/A.

Filed Date: 10/28/22.

Accession Number: 20221028-5129.

Comment Date: 5 p.m. ET 11/18/22.

Docket Numbers: ER21-2722-002.

Applicants: E. BarreCo Corp LLC.

Description: Notice of Non-Material Change in Status of E. BarreCo Corp LLC.

Filed Date: 10/27/22.

Accession Number: 20221027-5182.

Comment Date: 5 p.m. ET 11/17/22.

Docket Numbers: ER22-1439-003; ER22-1440-003; ER22-1441-003.

Applicants: EdSan 1B Group 2, LLC, EdSan 1B Group 1 Sanborn, LLC, EdSan 1B Group 1 Edwards, LLC.

Description: Notice of Non-Material Change in Status of EdSan 1B Group 1 Edwards, LLC, et al.

Filed Date: 10/28/22.

Accession Number: 20221028-5246.

Comment Date: 5 p.m. ET 11/18/22.

Docket Numbers: ER22-2799-000; ER22-2800-000; ER22-2801-000.

Applicants: VESI 25 LLC, VESI 24 LLC, VESI 21 LLC.

Description: Amendment to September 7, 2022 Applications for Market-Based Rate Authorization of VESI 21 LLC, et al.

Filed Date: 10/27/22.

Accession Number: 20221027-5186.

Comment Date: 5 p.m. ET 11/17/22.

Docket Numbers: ER23-222-000.

Applicants: EnerSmart Mesa Heights BESS LLC.

Description: Baseline eTariff Filing: Application for Market-Based Rate Authorization and Request for Waivers to be effective 12/27/2022.

Filed Date: 10/27/22.

Accession Number: 20221027-5140.

Comment Date: 5 p.m. ET 11/17/22.

Docket Numbers: ER23-223-000.

Applicants: EnerSmart Imperial Beach BESS LLC.

Description: Baseline eTariff Filing: Application for Market-Based Rate Authorization and Request for Waivers to be effective 12/27/2022.

Filed Date: 10/27/22.

Accession Number: 20221027-5141.

Comment Date: 5 p.m. ET 11/17/22.

Docket Numbers: ER23-224-000.

Applicants: Midcontinent Independent System Operator, Inc.

Description: § 205(d) Rate Filing: 2022-10-27_SA 3317 Termination of NSPM-Nobles 2 Power Partners E&P (J512) to be effective 10/28/2022.

Filed Date: 10/27/22.

Accession Number: 20221027-5151.

Comment Date: 5 p.m. ET 11/17/22.

Docket Numbers: ER23-225-000.

Applicants: Pacific Gas and Electric Company.

Description: § 205(d) Rate Filing: Q3 2022 Quarterly Filing of City and County of San Francisco's WDT SA (SA 275) to be effective 9/30/2022.

Filed Date: 10/27/22.

Accession Number: 20221028-5000.

Comment Date: 5 p.m. ET 11/17/22.

Docket Numbers: ER23-226-000.

Applicants: Southwest Power Pool, Inc.

Description: § 205(d) Rate Filing: Fourth Amended and Restated Western Joint Dispatch Agreements to be effective 12/28/2022.

Filed Date: 10/28/22.

Accession Number: 20221028-5016.

Comment Date: 5 p.m. ET 11/18/22.

Docket Numbers: ER23-227-000.

Applicants: Midcontinent Independent System Operator, Inc., Michigan Electric Transmission Company, LLC.

Description: § 205(d) Rate Filing: Midcontinent Independent System Operator, Inc. submits tariff filing per 35.13(a)(2)(iii: 2022-10-28_SA 3924 METC-Lansing Board of Water & Light IA to be effective 12/28/2022.

Filed Date: 10/28/22.

Accession Number: 20221028-5025.

Comment Date: 5 p.m. ET 11/18/22.

Docket Numbers: ER23-228-000.

Applicants: Otter Tail Power Company.

Description: Tariff Amendment: Notice of Cancellation of Operating Services Agreement No. 56 with ALPU to be effective 12/31/2022.

Filed Date: 10/28/22.

Accession Number: 20221028-5038.

Comment Date: 5 p.m. ET 11/18/22.

Docket Numbers: ER23-229-000.

Applicants: PJM Interconnection, L.L.C.

Description: § 205(d) Rate Filing: Amendment to ISA, Service Agreement No. 5868; Queue No. AC2-165 to be effective 12/7/2020.

Filed Date: 10/28/22.

Accession Number: 20221028-5042.

Comment Date: 5 p.m. ET 11/18/22.

Docket Numbers: ER23-230-000.

Applicants: PJM Interconnection, L.L.C.

Description: § 205(d) Rate Filing: Original ISA, Service Agreement No. 6674; Queue No. AC1-168 to be effective 9/30/2022.

Filed Date: 10/28/22.

Accession Number: 20221028-5050.

Comment Date: 5 p.m. ET 11/18/22.

Docket Numbers: ER23-231-000.

Applicants: Southwest Power Pool, Inc.

Description: § 205(d) Rate Filing: Revisions to Attachment W to Update Index of Grandfathered Agreements to be effective 1/1/2023.

Filed Date: 10/28/22.

Accession Number: 20221028-5053.

Comment Date: 5 p.m. ET 11/18/22.

Docket Numbers: ER23-232-000.

Applicants: Southern California Edison Company.

Description: § 205(d) Rate Filing: SCE 2023 RSBAA Update to be effective 1/1/2023.

Filed Date: 10/28/22.

Accession Number: 20221028-5084.

Comment Date: 5 p.m. ET 11/18/22.

Docket Numbers: ER23-233-000.

Applicants: Wisconsin Electric Power Company.

Description: § 205(d) Rate Filing: Filing of Revised Balancing Authority Operations Coordination Agreement to be effective 12/30/2022.

Filed Date: 10/28/22.

Accession Number: 20221028-5089.

Comment Date: 5 p.m. ET 11/18/22.

Docket Numbers: ER23-234-000.

Applicants: Otter Tail Power Company.

Description: § 205(d) Rate Filing: Revisions to Operating Services Agreement with CPEC, Service Agreement No. 54 to be effective 1/1/2023.

Filed Date: 10/28/22.

Accession Number: 20221028-5098.

Comment Date: 5 p.m. ET 11/18/22.

Docket Numbers: ER23-235-000.

Applicants: Old Gold Energy Center, LLC.

Description: Baseline eTariff Filing: Application for Market-Based Rate Authorization to be effective 12/28/2022.

Filed Date: 10/28/22.

Accession Number: 20221028-5104.

Comment Date: 5 p.m. ET 11/18/22.

Docket Numbers: ER23-236-000.

Applicants: Clearwater Energy Resources LLC.

Description: Baseline eTariff Filing: Clearwater Energy Resources LLC Co-Owners TSA and Request for Waivers to be effective 11/1/2022.

Filed Date: 10/28/22.

Accession Number: 20221028-5116.

Comment Date: 5 p.m. ET 11/18/22.

Docket Numbers: ER23-237-000.

Applicants: Public Service Company of Colorado.

Description: § 205(d) Rate Filing: 2022-10-28 WAPA Const Fac Agmt 359-PSCo 0.1.0 to be effective 12/28/2022.

Filed Date: 10/28/22.

Accession Number: 20221028-5117.

Comment Date: 5 p.m. ET 11/18/22.

Docket Numbers: ER23-238-000.

Applicants: Alabama Power Company, Georgia Power Company, Mississippi Power Company.

Description: Tariff Amendment: Alabama Power Company submits tariff filing per 35.15: Kruger Energy Crawford LGIA Termination Filing to be effective 10/28/2022.

Filed Date: 10/28/22.

Accession Number: 20221028-5120.

Comment Date: 5 p.m. ET 11/18/22.

Docket Numbers: ER23-239-000.

Applicants: Alabama Power Company, Georgia Power Company, Mississippi Power Company.

Description: Tariff Amendment: Alabama Power Company submits tariff filing per 35.15: Kruger Energy North Sumter Solar LGIA Termination Filing to be effective 10/28/2022.

Filed Date: 10/28/22.

Accession Number: 20221028-5121.

Comment Date: 5 p.m. ET 11/18/22.

Docket Numbers: ER23-240-000.

Applicants: Alabama Power Company, Georgia Power Company, Mississippi Power Company.

Description: § 205(d) Rate Filing: Alabama Power Company submits tariff filing per 35.13(a)(2)(iii: EDF Renewables (Double Run 2 Solar & Battery) LGIA Filing to be effective 10/20/2022.

Filed Date: 10/28/22.

Accession Number: 20221028-5122.

Comment Date: 5 p.m. ET 11/18/22.

Docket Numbers: ER23-241-000.

Applicants: Alabama Power Company, Georgia Power Company, Mississippi Power Company.

Description: § 205(d) Rate Filing: Alabama Power Company submits tariff filing per 35.13(a)(2)(iii: EDF Renewables (Rock House Solar & Battery) LGIA Filing to be effective 10/20/2022.

Filed Date: 10/28/22.

Accession Number: 20221028-5123.

Comment Date: 5 p.m. ET 11/18/22.

Docket Numbers: ER23-242-000.

Applicants: Nevada Power Company.

Description: Compliance Filing for Order No. 676-J of Nevada Power Company.

Filed Date: 10/28/22.

Accession Number: 20221028-5147.

Comment Date: 5 p.m. ET 11/18/22.

Docket Numbers: ER23-243-000.

Applicants: PJM Interconnection, L.L.C.

Description: § 205(d) Rate Filing: Amended PJM-WEPCO Balancing Authority Operations Coordination Agreement to be effective 12/30/2022.

Filed Date: 10/28/22.

Accession Number: 20221028-5150.

Comment Date: 5 p.m. ET 11/18/22.

Docket Numbers: ER23-244-000.

Applicants: Flemington Solar, LLC.

Description: Compliance filing: Reactive power informational filing to be effective N/A.

Filed Date: 10/28/22.

Accession Number: 20221028-5157.

Comment Date: 5 p.m. ET 11/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2022.
Debbie-Anne A. Reese,
Deputy Secretary.

[FR Doc. 2022-23937 Filed 11-2-22; 8:45 am]

BILLING CODE 6717-01-P